ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Arlington, Virginia, Monday through Wednesday, November 17-19, 2008, at the times and location noted below.

DATES: The schedule of events is as follows:

Monday, November 17, 2008

10:30-Noon Planning and Evaluation Committee.

1:30-3 p.m. Technical Programs Committee.

3-4:30 Accessible Design in Education Ad Hoc Committee.

Tuesday, November 18, 2008

9-Noon Ad Hoc Committee Meetings (Closed to Public): Reports and discussion on public rights-of-way; acoustics; transportation vehicles; outdoor developed areas; airport terminal access; passenger vessels; and information and communications technologies.

2:30-5 p.m. Presentation from the Emergency Transportable Housing Committee.

Wednesday, November 19, 2008

9:30-10:30 a.m. Budget Committee.

10:30-Noon Ad Hoc Committee Meetings (Closed to Public): Continued from the previous day's session.

1:30-3 p.m. Board Meeting.

ADDRESSES: All meetings will be held at The Westin Arlington Gateway Hotel, 801 North Glebe Road, Arlington, VA 22203.

FOR FURTHER INFORMATION CONTACT: For further information regarding the meetings, please contact David Capozzi, Acting Executive Director, (202) 272-0010 (voice) and (202) 272-0082 (TTY).

SUPPLEMENTARY INFORMATION: At the Board meeting, the Access Board will consider the following agenda items:

• Approval of the draft September 2008 Board Meeting Minutes.

• ADA/ABA Accessibility Guidelines; Federal Agency Updates.

• Planning and Evaluation Committee Report.

• Technical Programs Committee Report.

• Budget Committee Report.

• Information and Communications Technologies Ad Hoc Committee Report.

• Transportation Vehicles Ad Hoc Committee Report.

• Outdoor Developed Areas Ad Hoc Committee Report.

• Passenger Vessels Ad Hoc Committee Report.

• Public Rights-of-Way Ad Hoc Committee Report.

• Airport Terminal Access Ad Hoc Committee Report.

• Accessible Design in Education Ad Hoc Committee Report.

• Acoustics Ad Hoc Committee Report.

• Election Assistance Commission Report.

All meetings are accessible to persons with disabilities. An assistive listening system, computer assisted real-time transcription (CART), and sign language interpreters will be available at the Board meeting. Persons attending Board meetings are requested to refrain from using perfume, cologne, and other fragrances for the comfort of other participants.

Lisa B. Fairhall,
Deputy General Counsel.

[FR Doc. E8-25842 Filed 10-29-08; 8:45 am]

BILLING CODE 8150-01-P